ENVIRONMENTAL PROTECTION AGENCY

40 CFR Part 49

[EPA-R09-OAR-2010-0683; FRL-9235-3]

Extension of Public Comment Period and Postponement of Public Hearings for Source Specific Federal Implementation Plan for Implementing Best Available Retrofit Technology for Four Corners Power Plant: Navajo Nation

AGENCY: Environmental Protection Agency.

ACTION: Notice of extended public comment period and postponed public hearings.

SUMMARY: On October 19, 2010, EPA published in the Federal Register our proposed determination of the Best Available Retrofit Technology (BART) for the Four Corners Power Plant and requested comment by December 20, 2010. EPA is extending the public comment period until March 18, 2011, for our proposed BART determination. EPA is also postponing the open houses and public hearings announced in the Federal Register on November 12, 2010 and will provide additional notice and details of the rescheduled hearings at a later time.

DATES: Comments must be submitted no later than March 18, 2011.

ADDRESSES: Submit comments, identified by docket number EPA-R09-OAR-2010-0683, by one of the following methods:

Federal eRulemaking Portal: http://www.regulations.gov. Follow the on-line instructions.

E-mail: r9air_fcppbart@epa.gov.

Mail or deliver: Anita Lee (Air-3), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

FOR FURTHER INFORMATION CONTACT: If you have questions please contact Anita Lee, EPA Region IX, (415) 972-3958, r9air_fcppbart@epa.gov.

SUPPLEMENTARY INFORMATION: On October 19, 2010, the Region 9 Office of the United States Environmental Protection Agency (EPA) proposed a Source Specific Federal Implementation Plan to implement the Best Available Retrofit Technology for Four Corners Power Plant, located on the Navajo Nation (75 FR 64221). The Clean Air Act's Regional Haze Rule requires the use of Best Available Retrofit Technology (BART) at older coal-fired power plants to reduce haze and improve visibility.

On November 12, 2010, EPA published in the Federal Register (75 FR 69373) a notice of three sets of open houses and public hearings to be held at three locations in the Four Corners Area on December 6-9, 2010. EPA is postponing the open houses and public hearings and will provide additional notice and details of the rescheduled hearings at a later time.

EPA published notices of open houses and public hearings, to be held December 7-9, 2010 in Shiprock, NM, Farmington, NM, and Durango, CO, in the Farmington Daily Times and the Durango Herald on November 3, 2010 and the Navajo Times on November 4, 2010. Notice of these hearings was additionally published in the Federal Register on November 12, 2010 (75 FR 69373). On Thursday, November 11, 2010, EPA published notice in the Navajo Times of an additional open house and public hearing to be held at the Nenahnezad Chapter House in Fruitland, NM. The public comment period for the proposal was scheduled to close on December 20, 2010.

EPA proposed requiring the Four Corners Power Plant to meet a plant-wide limit of 0.11 lb/MMBtu, representing an 80% reduction in emissions of nitrogen oxides (NOX) to achieve cleaner, healthier air while improving the visibility at sixteen of our most pristine national parks and wilderness areas. EPA's proposal can be achieved by installing and operating selective catalytic reduction (SCR) on all five units. EPA is also proposing a particulate matter (PM) emission limit of 0.012 lb/MMBtu for the three smaller units that will require additional controls for fine particles, and is also requesting comment on whether BART can be met on the three smaller units by requiring an emission limit of 0.03 lb/MMBtu with a 20% opacity limit. Reduction of fine particles may help reduce the visible secondary plume that is often emanating from these three units. For the two larger units at Four Corners Power Plant, EPA is proposing an emission limit of 0.015 lb/MMBtu, achievable with proper operation of the existing baghouses.

On November 9, 2010, EPA met with representatives from Arizona Public Service (APS), co-owner and operator of FCPP. APS discussed an alternative proposal that calls for shutting down Units 1-3 at FCPP by 2014 and installing SCR on Units 4 and 5 by 2018. APS claims this plan will result in larger emissions reductions than EPA's proposal without layoffs at the facility. A record of this meeting has been posted to the docket for this proposed rulemaking. APS plans to submit their alternative proposal and supporting analysis to EPA shortly. EPA will make this submittal from APS available from our docket when it is received. The link to the docket can be reached at the following Web site: http://www.epa.gov/region9/air/navajo/index.html#proposed or from http://www.regulations.gov, identified by EPA Docket Number: EPA-R09-OAR-2010-0683.

EPA is extending the public comment period for our proposal to March 18, 2011 and postponing the scheduled open houses and public hearings to allow EPA and the public time to assess the alternative proposal submitted by APS. EPA may supplement our proposal with additional information following our analysis of APS' submission. If EPA supplements our original proposal, we will publish the supplement in the Federal Register and provide supporting documentation in our docket. The dates for the rescheduled open houses and public hearings have not yet been determined, but EPA will provide notice of the rescheduled open houses and hearings in local newspapers, in our docket, and on our Web site at least 30 days prior to the events.

EPA's proposed rule was published in the Federal Register on October 19, 2010 (75 FR 64221) and can be accessed the following Web site: http://www.epa.gov/region9/airnavajo/index.html#proposed. EPA has established a public docket for the proposed rulemaking under the docket number EPA-R09-OAR-2010-0683.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). Due to building security procedures, to inspect the hard copy materials, please schedule an appointment at least 24 hours in advance during normal business hours with the contact listed in the FOR FURTHER INFORMATION CONTACT section.

Dated: November 22, 2010.
Deborah Jordan,
Air Division Director, Region IX.

[FR Doc. 2010-30841 Filed 12-7-10; 8:45 am]

BILLING CODE 6560-50-P